DEPARTMENT OF HOMELAND SECURITY

Coast Guard

[Docket Number USCG-2019-0882]

BNSF Railway Bridge Across the Missouri River Between Bismarck and Mandan, North Dakota; Draft Environmental Impact Statement

AGENCY: Coast Guard, DHS.

ACTION: Notice of availability of draft Environmental Impact Statement, request for comments, and announcement of virtual public meeting.

SUMMARY: The United States Coast Guard, as the lead federal agency, announces the availability of a draft Environmental Impact Statement (EIS), in accordance with the National Environmental Policy Act of 1969 (NEPA), Council on Environmental Quality (CEQ) NEPA implementing regulations, and the National Historic Preservation Act (NHPA), evaluating the potential environmental consequences of permitting the replacement of the existing BNSF Railway Bridge across the Missouri River between the cities of Bismarck and Mandan, ND, or constructing a bridge adjacent to the existing bridge. The applicant proposes to remove the existing structure, which is eligible for listing on the National Register of Historic Places. The Coast Guard is analyzing proposed alternatives, through the NEPA and NHPA processes, to construct the new bridge while retaining the existing bridge. The Coast Guard is making the draft EIS available for public review and requests public comments. Additionally, the Coast Guard intends to host a virtual public meeting to provide additional information to the public and to solicit comments on potential issues and concerns.

DATES: Substantive and relevant comments must be submitted to the online docket via https://www.regulations.gov/ on or before July 22, 2021.

ADDRESSES: You may submit substantive and relevant comments identified by docket number USCG-2019-0882 using the Federal eRulemaking Portal at https://www.regulations.gov/. See the “Public Participation and Request for Comments” portion of the SUPPLEMENTARY INFORMATION section for further instructions on submitting comments.

FOR FURTHER INFORMATION CONTACT: Rob McCaskey, Coast Guard District Eight Project Officer, 314-269-2381.

SUPPLEMENTARY INFORMATION:

I. Background and Purpose

BNSF Railway Company owns and operates the existing bridge that crosses the Missouri River between the cities of Mandan, and Bismarck, North Dakota. With bridge components over 130 years old, the in-place structure is approaching the end of its useful service life. The structure has a history of exposure to ice jams and its substructure configuration renders it potentially susceptible to scour events which remove sediment from around the bridge abutments and piers. Although currently stable, the structure has experienced structural issues at both approaches in the past, resulting in unanticipated substructure movements. Since the bridge's original construction in 1882, the east hill slope has begun to move which resulted in the slope moving the pier west towards the river. Multiple remediation efforts to correct the pier damage and slope movement took place from the early 1900s to the mid-1950s. The purpose of the project is to construct a new, independent bridge across the Missouri River upstream of the in-place structure. The new structure will provide a significant improvement in operational reliability and safety, and will provide enhanced structural redundancy thereby making it less susceptible to damage. As the current structure is over 130 years old, it requires substantial inspection and maintenance, which are disruptive to rail service. The new structure will be a single-track bridge but have the capability to carry a second track in the future when and if volumes necessitate that addition.

The BNSF Bismarck Bridge was constructed with similar methods in the same era as the Brooklyn Bridge. It is an iconic landmark that predates official North Dakota statehood by 6 years. The bridge is eligible for listing in the National Register of Historic Places for its association with broad patterns of railroad, commercial and military history of the United States. Because of these attributes, certain interest groups have expressed a desire to preserve the existing bridge.

The federal bridge statutes, including the General Bridge Act of 1946 (33 U.S.C. 525 et seq.), require that the location and plans of bridges in or over navigable waters of the United States be approved by the Secretary of Homeland Security, who has delegated that responsibility to the Coast Guard. The Missouri River is a navigable water of the United States as defined in 33 CFR 2.36(a). The Coast Guard's primary responsibility regarding BNSF's proposed railroad bridge is to ensure the structure does not unreasonably obstruct navigation. In exercising these bridge authorities, the Coast Guard considers navigational and environmental impacts, which include historic and tribal effects.

The Coast Guard is the lead federal agency for this project and, as such, is responsible for the review of its potential effects on the human environment, including historic properties and tribal impacts, pursuant to NEPA and NHPA. The Coast Guard is, therefore, required by law to ensure potential environmental effects are carefully evaluated in each bridge permitting decision.

The four alternatives considered for the proposed project include different span lengths and different distances from the current bridge. Specifically, the alternatives include:

• Building a new bridge with 200-foot spans and piers 92.5 feet upstream of the existing bridge (alternative considered keeping the existing bridge and removing the existing bridge).

• Building a new bridge with 400-foot spans and piers 92.5 feet upstream of the existing bridge (alternative considered keeping the existing bridge and removing the existing bridge).

• Building a new bridge with 200-foot spans and piers 42.5 feet upstream of the existing bridge (alternative considered keeping the existing bridge and removing the existing bridge).

• Building a new bridge with 200-foot spans and piers 20 feet upstream of the existing bridge and removing the existing bridge (BNSF Preferred Design).

The alternatives were developed to meet the purpose and need of the project, which is to provide BNSF Railway with a new bridge that can accommodate two tracks at a future date should a second track become needed. There are specific constraints in the area that must be taken into consideration as designs are evaluated. For example, the bridge is close to the Missouri River Natural Area, which is a federally funded park managed by the North Dakota Parks and Recreation Department in cooperation with the North Dakota Department of Transportation, Morton County Parks, and the City of Mandan. The Missouri River Natural Area is the home to many species, including bald eagles, fox, deer and owls. Likewise, the bridge is in close proximity to the Bismarck Reservoir, which is a major source of drinking water for residents of the area and is located in an area with a history of significant slope stability issues.

As part of this evaluation process, the Coast Guard solicits substantive and relevant comments from the public, and any Federal, State, and local agencies with expertise in, and authority over, particular resources that may be impacted by a project. Additionally, the Coast Guard seeks input from any tribes that may be affected or otherwise have expertise or equities in the project. Agencies that have already participated in the environmental review of this Project include the U.S. Army Corps of Engineers (USACE), the U.S. Fish and Wildlife Service (USFWS), the U.S. Federal Emergency Management Agency (FEMA), the North Dakota State Historic Preservation Office (SHPO) and the Advisory Council on Historic Preservation (ACHP).

II. Discussion

The Coast Guard developed a draft EIS that addresses impacts associated with the alternatives mentioned in Section I above. These impacts include those environmental control laws listed in the Coast Guard's Bridge Permit Application Guide (available at https://www.dco.uscg.mil/Portals/9/DCO%20Documents/5pw/Office%20of%20Bridge%20Programs/BPAG%20COMDTPUB%20P16591%203D_Sequential%20Clearance%20Final(July2016).pdf), as well as those impacts associated with floodplain rise, impacts to the Bismarck Water Reservoir and the Missouri River Natural Area.

On January 15, 2021, a Programmatic Agreement in accordance with Section 106 of the NHPA was signed to address the adverse effect on the historic bridge. To date, the Coast Guard has held 16 consultation meetings with stakeholders to develop the Final Programmatic Agreement. The Coast Guard is currently working with consulting parties to develop a Memorandum of Agreement, which will act as an implementation plan for the Programmatic Agreement. The Programmatic Agreement is available in the appendix of the draft EIS.

We request your substantive and relevant comments on environmental concerns that you may have related to the draft EIS. Your comments will be considered in preparing a final environmental document.

III. Public Participation and Comments

We encourage you to submit substantive and relevant comments (or related material) on the draft Environmental Impact Statement. We will consider all substantive and relevant submissions and may adjust our final action based on your comments. If you submit a comment, please include the docket number for this notice, indicate the specific section of this document to which each comment applies, and provide a reason for each suggestion or recommendation.

We encourage you to submit comments through the Federal eRulemaking Portal at http://www.regulations.gov/. If your material cannot be submitted using http://www.regulations.gov/, contact the person in the FOR FURTHER INFORMATION CONTACT section of this document for alternate instructions. The draft EIS and public comments will be available in our online docket at http://www.regulations.gov/ and can be viewed by following that website's instructions.

We accept anonymous comments. All substantive and relevant comments received will be posted without change to http://www.regulations.gov/ and will include any personal information you have provided. For more information about privacy and submissions to the docket in response to this document, see DHS's eRulemaking System of Records notice (85 FR 14226, March 11, 2020).

IV. Virtual Public Meeting

Due to the ongoing COVID-19 pandemic, the Coast Guard intends to hold a virtual public meeting to receive oral and written comments on this draft EIS. The meeting will be held on June 30, 2021 from 6:00-9:00 p.m. (Central), and can be accessed online at https://ch2m-pge.my.webex.com/ch2m-pge.my/j.php?MTID=m45e9e9fb750989eb89f8bf260630b06c. Attendees may also join by phone. The call-in number is 1-510-338-9438 (USA toll) and the access code is 182 625 0321. The meeting is expected to last approximately 3 hours.

The virtual meeting is open to the public. Those who plan to attend the meeting and wish to present substantive and relevant comments may request to do so through the online docket at http://www.regulations.gov, and will be called in order of requests received. Attendees who have not previously made a request to present comments will follow those who have already submitted a request, as time permits. If a large number of persons wish to speak, the presiding officer may be required to limit the time allotted to each speaker. It is requested that one member from a group speak on behalf of that group in order to allow more views to be presented. The public meeting may end early if all present wishing to speak have done so.

A transcript of the meeting will be made available for public review approximately 30 days after the meeting. All substantive and relevant comments will be incorporated into the official case record.

Information on Service for Individuals With Disabilities: For information on services for individuals with disabilities or to request special assistance during the public meeting contact Mr. Rob McCaskey at the telephone number under the FOR FURTHER INFORMATION CONTACT section of this notice.

This notice is issued under the authority of 5 U.S.C. 552 (a) and 40 CFR 1506.6.

Dated: June 1, 2021.
Brian L. Dunn,
Chief, U.S. Coast Guard, Office of Bridge Programs.

[FR Doc. 2021-11801 Filed 6-4-21; 8:45 am]

BILLING CODE P